DEPARTMENT OF COMMERCE

Foreign-Trade Zones Board

[B-11-2021]

Foreign-Trade Zone (FTZ) 38—Spartanburg County, South Carolina; Notification of Proposed Production Activity; Bosch Security Systems, LLC; (Surveillance, Detection, Evacuation, and Management Systems); Greer, South Carolina

Bosch Security Systems, LLC (Bosch) submitted a notification of proposed production activity to the FTZ Board for its facility in Greer, South Carolina. The notification conforming to the requirements of the regulations of the FTZ Board (15 CFR 400.22) was received on February 17, 2021.

The Bosch facility is located within FTZ 38. The facility will be used for the kitting of video surveillance, intrusion detection, fire detection and voice evacuation systems, firmware or software upgrades and/or configurations, as well as access control and management systems and related components and accessories. Pursuant to 15 CFR 400.14(b), FTZ activity would be limited to the specific foreign-status materials and components and specific finished products described in the submitted notification (as described below) and subsequently authorized by the FTZ Board.

Production under FTZ procedures could exempt Bosch from customs duty payments on the foreign-status components used in export production. On its domestic sales, for the foreign-status materials/components noted below, Bosch would be able to choose the duty rates during customs entry procedures that apply to various kits (access control training; recorder; control panel programming; transformer; power supply; charger case/cabinet; battery charger; programming modem; public address systems; transmitter; control unit; communication signal radiator; media converter; receiver; fire/intrusion detection systems; decoder; network controller; wireless microphone system; speaker system; amplifier system; speaker repair; security system program; secure digital card; camera with camera module; surveillance camera system; network recorder; camera; camera mounting; controller; smoke detector; fire panel; logo label; control panel components; motion detector; power supply module; touch screen keypad; control panel; fire/intrusion/access detection systems; remote keypad; audio/light mixer); and, fire/intrusion detection systems (duty rate ranges from duty-free to 3.5%). Bosch would be able to avoid duty on foreign-status components which become scrap/waste. Customs duties also could possibly be deferred or reduced on foreign-status production equipment.

The components and materials sourced from abroad include: Plastic components (label; keypad SDI (serial digital interface); tubing; mounting frame; cable tie); poly components (zipper storage bag; bag); gaskets (including rubber; waterproof wood; waterproof cork; plate); paperboard components (sleeve kit; motion detector label kit; panel insert/box; packaging; label; blank label); tech literature; steel components (hardware kit; screw); stainless steel components (fire enclosure with door; enclosure; spacer; mounting plate); aluminum wall mounts with cable; screwdriver bit sets; enclosure locks and keys; locks and keys; clamps; brackets; pole mount adapters; two-speed driver kits; security system keyboards; EM card readers (card reader technology); card readers; configured hard disk drives; Universal Serial Bus (USB); subscriber identification module (SIM) cards; controllers (access control system; battery; network; video security system; burglar alarm system); enclosures (National Electrical Manufacturers Association (NEMA) rated; medium; fire system; access control system); transformers; power supplies; charger cases/cabinets; dome camera covers; lithium batteries; lead-acid batteries; backup power supply components (battery box; battery charger; dual battery harness; low battery disconnect module); modems/transformers; modules (ethernet communication; expansion input; plug-in cellular; expansion; auxiliary relay; access system; retrofit; interface; line (LN) bus); weekly timers; message managers; transmitters (voice/data; bodypack; signal); control units; communication signal radiators; media converters; central station receivers; input expansions; wireless bus; output expansions; communicators (universal dual path; plug-in; control); video stream decoders; wireless sets; handhelds; plates (mounting; trim); microphone wireless heads; antennae; mics; column speakers; amplifiers; loudspeaker components (voice coil; cone; spider; dome; panel); domes (dust; fixed; pan, tilt, zoom (PTZ); bullet); spider coils; supervision controls; DVD recorders; blank DVDs; wireless key fobs; internet protocol (IP) security mics; key fobs; fixed position holds; bill traps; cameras; receivers; pendant arms; camera components (pendant; housing; adapter; housing assembly; plate); mounting components (kit; conversion ring; frame); wall mounts; surface mount boxes; surveillance cabinets; ceiling support kits; duct smoke detector components (housing; head); detectors (smoke; motion; passive infrared (PIR)/microwave (MW); wireless motion; glass break); end-of-line bases; flush detector heads; smoke detector bases with wiring; indoor sirens; necklace pendants for access control cards; manual stations for fire alarm activation; panels (fire; intrusion system; light emitting diode (LED) command control; control; IP control; controller); contact monitors; keypads (including two-line alpha numeric; LED; basic; alpha/numeric; touch screen; liquid crystal display (LCD) text); wall horns/strobes; sample tubes for duct smoke alarms; labels (blank; recycle battery); interface modules for an intrusion system panel; e-net interfaces; request to exit sensors; battery shelves; trim rings; drop-ceiling flush; detector housings; power supply brackets; dummy covers; power supply module interfaces; wireless surface mounts; wireless loop inputs; trim plates for keypads; external annunciators; switches (tamper proof for intrusion systems; dual phone line; dual tamper); end of line resistors; phone jacks; panel rails; window/door contacts; touch screens; cable clamps; electrical knockout plugs; audio/light mixers; cables; phone cords; dual battery harnesses; cable sets; cables under 80V; and, security camera lenses (duty rate ranges from duty-free to 8.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is April 6, 2021.

A copy of the notification will be available for public inspection in the “Reading Room” section of the Board's website, which is accessible via www.trade.gov/ftz.

For further information, contact Juanita Chen at juanita.chen@trade.gov or 202-482-1378.

Dated: February 22, 2021.
Andrew McGilvray,
Executive Secretary.

[FR Doc. 2021-03909 Filed 2-24-21; 8:45 am]

BILLING CODE 3510-DS-P